DEPARTMENT OF THE INTERIOR

Fish and Wildlife Service

50 CFR Part 21

[Docket No. FWS-R9-MB-2011-0033; 91200-1231-9BPP]

RIN 1018-AX82

Migratory Bird Permits; Double-Crested Cormorant Management in the United States

AGENCY: Fish and Wildlife Service, Interior.

ACTION: Request for comments; extension of comment period.

SUMMARY: We, the U.S. Fish and Wildlife Service, extend the comment period for public comments to guide the preparation of a Supplemental Environmental Impact Statement or Environmental Assessment on the development of revised regulations governing the management of double-crested cormorants. Under current regulations, cormorant damage management activities are conducted annually at the local level by individuals or agencies operating under USFWS depredation permits, the existing Aquaculture Depredation Order, or the existing Public Resource Depredation Order. The depredation orders are scheduled to expire on June 30, 2014. Our analysis will update the 2003 Final Environmental Impact Statement (FEIS): Double-crested cormorant management in the United States (USFWS 2003). If you have previously submitted comments, please do not resubmit them, because we have already incorporated them in the public record and will fully consider them in our final decision.

DATES: Electronic comments via http://www.regulations.gov must be submitted by 11:59 p.m. Eastern Time on April 6, 2012. Comments submitted by mail must be postmarked no later than April 6, 2012.

ADDRESSES: You may submit comments by either one of the following methods:

Federal eRulemaking Portal: http://www.regulations.gov. Follow the instructions for submitting comments on Docket No. FWS-R9-MB-2011-0033.

U.S. Mail or hand delivery: Public Comments Processing, Attn: FWS-R9-MB-2011-0033; Division of Policy and Directives Management; U.S. Fish and Wildlife Service; 4401 North Fairfax Drive, Mail Stop 2042-PDM; Arlington, VA 22203-1610.

We will not accept email or faxes. We will post all comments on http://www.regulations.gov. This generally means that we will post any personal information that you provide. See the Public Comments section below for more information.

FOR FURTHER INFORMATION CONTACT: Terry Doyle, Wildlife Biologist, at (703) 358-1799.

SUPPLEMENTARY INFORMATION:

Public Comments

We request comments and suggestions on this topic from other concerned governmental agencies, the scientific community, industry, or any other interested parties. You may submit your comments and materials concerning this issue by one of the methods listed in the ADDRESSES section. We will not consider comments sent by email or fax or to an address not listed in the ADDRESSES section.

If you submit a comment via http://www.regulations.gov, your entire comment—including any personal identifying information—will be posted on the Web site. If you submit a hardcopy comment that includes personal identifying information, you may request at the top of your document that we withhold this information from public review. However, we cannot guarantee that we will be able to do so. We will post all hardcopy comments on http://www.regulations.gov.

Comments and materials we receive, as well as supporting documentation we use in preparing a proposed rule, will be available for public inspection at http://www.regulations.gov, or by appointment, during normal business hours, at the U.S. Fish and Wildlife Service (contact the person listed under FOR FURTHER INFORMATION CONTACT).

Background

On November 8, 2011, we published a request for comments for consideration as we revise the regulations governing double-crested cormorant management (76 FR 69225). We requested comments on a variety of issues related to double-crested cormorants, and asked a number of questions for consideration as we develop a proposal to revise the regulations at 50 CFR 21.47 and 21.48. See that document for detailed information.

We have received requests from two Flyways for an extension of the comment period so that they may consider the regulations and management issues at their upcoming meetings. To accommodate these requests, we extend the comment period for an additional 60 days, until April 6, 2012.

Dated: January 18, 2012.
Rachel Jacobson,
Acting, Assistant Secretary for Fish and Wildlife and Parks.

[FR Doc. 2012-1807 Filed 1-26-12; 8:45 am]

BILLING CODE 4310-55-P